DEPARTMENT OF DEFENSE

Department of the Army; Corps of Engineers

Notice of Availability of Surplus Land and Buildings in Accordance With Public Law 103-421 Located at Fort Ritchie Military Reservation, Cascade, MD

AGENCY: Corps of Engineers, DoD.

ACTION: Public notice of availability.

SUMMARY: This notice identifies the surplus real property located at the Fort Ritchie Military Reservation, Cascade, MD. The property is located in Washington County, Northeast of Hagerstown in the community of Cascade, MD at the intersection of routes 550 and 491.

SUPPLEMENTARY INFORMATION: This surplus is available under the provisions of the Federal Property and Administrative Services Act of 1949 and the Base Closure Community Redevelopment and Homeless Assistance Act of 1994. Notices of interest should be forwarded to Mr. Richard Rook, Executive Director, PenMar Development Corporation, P.O. Box 699, Cascade, MD 21719, telephone (301) 241-4050, fax (301) 241-4141. A copy of Notices of Interest should be sent to Mr. Gerry Bresee at the address below.

For more information regarding the particular property identified in this Notice (i.e., acreage, floor plans, existing sanitary facilities, exact location), contact Mr. Gerry Bresee, Real Estate Division, Army Corps of Engineers, P.O. Box 1715, Baltimore, MD 21203 (telephone 410-962-5173, fax 410-962-0866).

Parties qualifying for Public Benefit Conveyances are invited to contact the following offices to find out more about each agency's Public Benefit Conveyance Program and to discuss with the Agency the Party's potential for qualifying for a conveyance of property:

For Park and Recreation Uses

Mr. Bill Huie, Recreation Grants Division, Southeast Regional Office, National Park Service, 100 Alabama Street, SW., Atlanta Georgia, GA 30303, 404-562-3175.

For Educational Uses

Mr. Peter Wieczorek, Director, Eastern Zone, Federal Real Property Assistance Program, U.S. Department of Education, J.W. McCormack PO & Courthouse, Room 536, Boston, MA 02109, 617-223-9321.

For Health Conveyances

Chief, Real Property Branch, Division of Health Facilities Planning, Room 5B17, Parklawn Building, 5600 Fishers Lane, Rockville, Maryland 20857, 301-443-2265.

For Prison Uses

Chief, Site Selection and Environmental Review, Bureau of Prisons, 320 First Street, NW, Washington, DC 20534, 202-514-6470.

The surplus real property totals approximately 591 acres and contains 252 buildings totaling 1,384,000 square feet of space. Current range of uses include administrative, residential, open recreation and special purpose space. Future uses may include generally the same types of uses.

James S. Turkel,
Chief Real Estate Division, Corps of Engineers, United States of America.

[FR Doc. 03-7001 Filed 3-24-03; 8:45 am]

BILLING CODE 3710-92-P